DEPARTMENT OF THE INTERIOR

Fish and Wildlife Service

[FWS-R4-ES-2022-N042; FXES11140400000-223-FF04E00000]

Endangered Species; Recovery Permit Applications

AGENCY: Fish and Wildlife Service, Interior.

ACTION: Notice of receipt of permit applications; request for comments.

SUMMARY: We, the U.S. Fish and Wildlife Service, have received applications for permits, permit renewals, and/or permit amendments to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by September 12, 2022.

ADDRESSES:

Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. Mail: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species | Location | Activity | Type of take | Permit action
TE 56588D-2 | Martin J. Melville, Marietta, GA | Palezone shiner (Notropis albizonatus) and rush darter (Etheostoma phytophilum) | Alabama | Presence/probable absence surveys | Capture, handle, identify, and release | Amendment.
TE 91755B-1 | Nathan Click, Kentucky Transportation Cabinet, Frankfort, KY | Clubshell (Pleurobema clava), cracking pearlymussel (Hemistena lata), Cumberland bean (Villosa trabilis), Cumberland elktoe (Alasmidonta atropurpurea), Cumberlandian combshell (Epioblasma brevidens), dromedary pearlymussel (Dromus dromas), fanshell (Cyprogenia stegaria), fat pocketbook (Potamilus capax), fluted kidneyshell (Ptychobranchus subtentus), littlewing pearlymussel (Pegias fabula), northern riffleshell (E. rangiana), orangefoot pimpleback (Plethobasus cooperianus), oyster mussel (E. capsaeformis), pink mucket (Lampsilis abrupta), purple cat's paw (E. obliquata obliquata), rabbitsfoot (Quadrula cylindrica cylindrica), rayed bean (V. fabalis), ring pink (Obovaria retusa), rough pigtoe (Pleurobema plenum), scaleshell (Leptodea leptodon), sheepnose (Plethobasus cyphyus), slabside pearlymussel (Pleuronaia dolabelloides), snuffbox (E. triquetra), spectaclecase (Cumberlandia monodonta), tan riffleshell (E. florentina walkeri), white wartyback (Plethobasus cicatricosus), and winged mapleleaf (Q. fragosa) | Kentucky | Presence/probable absence surveys | Capture, handle, identify, mark, and release | Renewal.
TE 008077-3 | John Palis, Jonesboro, IL | Frosted flatwoods salamander (Ambystoma cingulatum) and reticulated flatwoods salamander (A. bishopi) | Florida, Georgia, and South Carolina | Presence/probable absence surveys | Capture, mark, release, and collect voucher specimens | Renewal.
TE 98596B-3 | Sarah Veselka, BioSurvey Group, LLC, Morgantown, WV | Mussels: Clubshell (Pleurobema clava), cracking pearlymussel (Hemistena lata), fanshell (Cyprogenia stegaria), James spinymussel (Parvaspina collina), northern riffleshell (Epioblasma rangiana), orangefoot pimpleback (Plethobasus cooperianus), pink mucket (Lampsilis abrupta), purple cat's paw (E. obliquata obliquata), rabbitsfoot (Quadrula cylindrica cylindrica), rayed bean (Villosa fabalis), ring pink (Obovaria retusa), rough pigtoe (Pleurobema plenum), sheepnose (Plethobasus cyphyus), snuffbox (E. triquetra), spectaclecase (Cumberlandia monodonta), and white catspaw (E. obliquata perobliqua); Crayfish: Big Sandy crayfish (Cambarus callainus) and Guyandotte River crayfish (C. veteranus) | Mussels: Alabama, Arkansas, Connecticut, Delaware, Illinois, Indiana, Iowa, Kansas, Kentucky, Louisiana, Maryland, Massachusetts, Michigan, Minnesota, Mississippi, Missouri, New Hampshire, New Jersey, New York, North Carolina, Ohio, Oklahoma, Pennsylvania, Tennessee, Vermont, Virginia, West Virginia, and Wisconsin; Crayfish: Kentucky, Virginia, and West Virginia | Presence/probable absence surveys and mark-recapture projects | Mussels: Remove from the substrate for identification, handle, identify, tag, and release; Crayfish: Capture via seining, handle, identify, and release | Renewal and amendment.
TE 33465A-4 | U.S. Forest Service, Montgomery, AL | Red-cockaded woodpecker (Picoides borealis) | Alabama, Florida, Georgia, Mississippi, and South Carolina | Population management and monitoring | Capture; band; drill nest cavities; install inserts, restrictors, and snake and squirrel excluders; monitor nest cavities and artificial nest cavities; recapture; and translocate | Renewal.
PER 0047056 | Margaret Lamont, U.S. Geological Survey, Gainesville, FL | Green sea turtle (Chelonia mydas), Kemp's ridley sea turtle (Lepidochelys kempii), and loggerhead sea turtle (Caretta caretta) | Alabama | Population and distribution monitoring, mark-recapture studies, genetic and diet research | PIT and flipper tag, weigh, measure, and collect scute, tissue, and blood samples | New.
TE 079883-5 | Arkansas Department of Transportation, Little Rock, AR | Mussels: Arkansas fatmucket (Lampsilis powellii), Curtis pearlymussel (Epioblasma florentina curtisii), fanshell (Cyprogenia stegaria), fat pocketbook (Potamilus capax), Neosho mucket (L. rafinesqueana), Ouachita rock pocketbook (Arcidens wheeleri), pink mucket (L. abrupta), rabbitsfoot (Quadrula cylindrica cylindrica), scaleshell mussel (Leptodea leptodon), snuffbox mussel (E. triquetra), speckled pocketbook (Lampsilis streckeri), spectaclecase (Cumberlandia monodonta), turgid blossom (E. turgidula), and winged mapleleaf (Q. fragosa); Insects: American burying beetle (Nicrophorus americanus) | Arkansas | Presence/probable absence surveys | Mussels: Remove from substrate, handle, identify, swab, release, and salvage relic shells; Insects: Live trap and release | Renewal and amendment.
TE 35594A-5 | Alabama Power Company, Birmingham, AL | Red-cockaded woodpecker (Picoides borealis); flattened musk turtle (Sternotherus depressus); gopher tortoise (Gopherus polyphemus); black pinesnake (Pituophis melanoleucus lodingi); Black Warrior waterdog (Necturus alabamensis); Fishes: Trispot darter (Etheostoma trisella) and rush darter (E. phytophilum); Mussels: Finelined pocketbook (Hamiota altilis), Georgia pigtoe (Pleurobema hanleyianum), southern clubshell (P. decisum), and southern pigtoe (P. georgianum); Snails: Cylindrical lioplax (Lioplax cyclostomaformis), interrupted rocksnail (Leptoxis foremani), painted rocksnail (L. taeniata), rough hornsnail (Pleurocera foremani), and tulotoma (Tulotoma magnifica) | Alabama | Presence/probable absence surveys and population monitoring | Red-cockaded woodpecker: Monitor nest cavities; flattened musk turtle: Capture, handle, radio tag, and release; gopher tortoise and black pinesnake: Scope burrows; Black Warrior waterdog: Capture, handle, collect tissue samples, and release; Fishes: Capture, handle, and release; Mussels and Snails: Remove from substrate, handle, tag, release, and collect relic shells | Renewal and amendment.
TE 02167C-1 | James Gore, Columbia, SC | Gray bat (Myotis grisescens), Indiana bat (Myotis sodalis), northern long-eared bat (Myotis septentrionalis), Ozark big-eared bat (Corynorhinus (=Plecotus) townsendii ingens), and Virginia big-eared bat (Corynorhinus (=Plecotus) townsendii virginianus) | Alabama, Arkansas, Connecticut, Delaware, District of Columbia, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys, population monitoring, and stable isotope analyses | Enter hibernacula and maternity roost caves, capture with mist nets or harp traps, handle, identify, band, radio tag, and collect hair samples | Renewal and amendment.
TE 065972-3 | U.S. Forest Service, Russellville, AR | Mammals: Gray bat (Myotis grisescens), Indiana bat (Myotis sodalis), northern long-eared bat (Myotis septentrionalis), and Ozark big-eared bat (Corynorhinus (=Plecotus) townsendii ingens); Insects: American burying beetle (Nicrophorus americanus) | Ozark-St. Francis National Forests, Arkansas | Presence/probable absence surveys | Mammals: Enter hibernacula and maternity roost caves, capture with mist nets or harp traps, handle, identify, band, and radio tag; Insects: Live-trap and release | Renewal and amendment.

Authority

We publish this notice under section 10(c) of the Endangered Species Act of 1973, as amended (16 U.S.C. 1531 et seq.).

John Tirpak,
Deputy Assistant Regional Director, Ecological Services Southeast Region.

[FR Doc. 2022-17340 Filed 8-11-22; 8:45 am]

BILLING CODE 4333-15-P